DEPARTMENT OF THE TREASURY

Submission for OMB Review; Comment Request

January 9, 2012.

The Department of the Treasury will submit the following information collection request to the Office of Management and Budget (OMB) for review and clearance in accordance with the Paperwork Reduction Act of 1995, Public Law 104-13, on or after the date of publication of this notice.

DATES: Comments should be received on or before February 13, 2012 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Avenue NW., Suite 11020, Washington, DC 20220, or on-line at www.PRAComment.gov.

FOR FURTHER INFORMATION CONTACT: Copies of the submission(s) may be obtained by calling (202) 927-5331, email at PRA@treasury.gov, or the entire information collection request maybe found at http://www.reginfo.gov.

Bureau of the Public Debt (BPD)

OMB Number: 1535-0091.

Type of Review: Revision of a currently approved collection.

Title: Regulations Governing U.S. Treasury Securities—State and Local Government Series.

Abstract: Regulations governing U.S. Treasury Securities—State and Local Government Series.

Affected Public: State, Local, and Tribal Governments.

Estimated Total Burden Hours: 4,800.

Dawn D. Wolfgang,
Treasury PRA Clearance Officer.

[FR Doc. 2012-442 Filed 1-11-12; 8:45 am]

BILLING CODE 4810-39-P